NUCLEAR REGULATORY COMMISSION

[NRC-2017-0052]

Clarification of Licensee Actions in Enforcement Guidance Memorandum EGM 15-002, Enforcement Discretion for Tornado-Generated Missile Protection Noncompliance, Revision 1

AGENCY: Nuclear Regulatory Commission.

ACTION: Draft interim staff guidance; request for comment.

SUMMARY: The U.S. Nuclear Regulatory Commission (NRC) is soliciting public comment on its draft Interim Staff Guidance (ISG), Clarification of Licensee Actions in Receipt of Enforcement Discretion per Enforcement Guidance Memorandum (EGM) 15-002, “Enforcement Discretion for Tornado-Generated Missile Protection Noncompliance,” Revision 1. The NRC staff is publishing this revised ISG for public comment. The revisions provide clarifying guidance to facilitate staff understanding of expectations for consistent oversight associated with implementing enforcement discretion for tornado missile protection noncompliance(s), as discussed in EGM 15-002, Revision 1.

DATES: Submit comments by March 27, 2017. Comments received after this date will be considered if it is practical to do so, but the Commission is able to ensure consideration only for comments received before this date.

ADDRESSES: You may submit comments by any of the following methods:

• Federal Rulemaking Web site: Go to http://www.regulations.gov and search for Docket ID NRC-2017-0052. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: James Hickey, Office of Nuclear Reactor Regulation, U.S. Nuclear Regulatory Commission, Washington DC 20555-0001; telephone: 301-415-2180, email: James.Hickey@nrc.gov.

SUPPLEMENTARY INFORMATION:

I. Obtaining Information and Submitting Comments

A. Obtaining Information

Please refer to Docket ID NRC-2017-0052 when contacting the NRC about the availability of information for this action. You may obtain publicly-available information related to this action by any of the following methods:

• Federal Rulemaking Web site: Go to http://www.regulations.gov and search for Docket ID NRC-2017-0052.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) it is provided the first time that it is mentioned in this document. The ISG, “Clarification of Licensee Actions in Receipt of Enforcement Discretion Memorandum 15-002, “Enforcement Discretion for Tornado-Generated Missile Protection Noncompliance,” Revision 1, is available in ADAMS under Accession No. ML16342A940. The EGM 15-002, “Enforcement Discretion for Tornado-Generated Missile Protection Noncompliance,” Revision 1 is available in ADAMS under Accession No. ML16355A286.

• NRC's PDR: You may examine and purchase copies of public documents at the NRC's PDR, Room O1-F21, One White Flint North, 11555 Rockville Pike, Rockville, Maryland 20852.

B. Submitting Comments

Please include Docket ID NRC-2017-0052 in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

The Office of Nuclear Reactor Regulation (NRR), Division of Risk Analysis (DRA) completed a generic bounding risk analysis (ADAMS Accession No. ML14114A556) that concluded that the issues associated with the inoperability of a Structure, System, or Component due to a tornado-generated missile are likely to be of low risk significance, and do not require immediate plant shutdown. Based on the conclusions of the NRR/DRA analysis, the staff issued EGM 15-002, dated June 10, 2015. In its implementation of EGM 15-002, the NRC staff found that additional refinements are needed to address reportability, enforcement of long standing design issues, and the duration of the enforcement discretion resulting from all the non-conforming conditions being assessed together. As a result, the staff issued EGM 15-002, Revision 1, dated February 7, 2017.

This revised ISG adds additional information for inspection and review staff to support implementation of the changes made in EGM 15-002, Revision 1. This revised draft ISG provides an approach to extending the discretion period. The draft revisions to this ISG also revise provisions concerning reportability requirements under § 50.72 of title 10 of the Code of Federal Regulations (10 CFR), discusses enforcement discretion for long-term design non conformances, and reinforces the need for licensees to follow the corrective action program when dispositioning the impact of identified tornado missile non-conformances on operability. This revised ISG will expire with the expiration of EGM 15-002, Revision 1.

III. Proposed Action

By this action, the NRC is requesting public comments on draft ISG-16-001, Revision 1. This draft ISG provides an approach to extending the discretion period, revises reportability requirements under 10 CCFR 50.72, discusses enforcement discretion for long-term design non conformances, and reinforces the need for licensees to follow their corrective action program when dispositioning the impact of identified tornado missile non-conformances on operability.

IV. Backfit Discussion

Issuance of this ISG in final form would not constitute backfitting as defined in 10 CFR 50.109 (the Backfit Rule). As discussed in the “Backfitting” section of draft DSS-ISG- 2016-001, Revision 1, this ISG contains guidance for NRC staff for implementing EGM-15-002. This ISG does not constitute backfitting as defined in the Backfit Rule and is not otherwise inconsistent with the issue finality provisions in 10 CFR part 52, and the NRC staff did not prepare a backfit analysis. This is because this ISG requires no response by licensees, and concerns only NRC staff implementation of enforcement discretion pursuant to EGM-15-0002.

Dated at Rockville, Maryland, this 13th day of February 2017.
For the Nuclear Regulatory Commission.
Robert Taylor,
Director, Division of Safety Systems, Office of Nuclear Reactor Regulation.

[FR Doc. 2017-03527 Filed 2-22-17; 8:45 am]

BILLING CODE 7590-01-P